COMMITTEE FOR PURCHASE FROM PEOPLE WHO ARE BLIND OR SEVERELY DISABLED

Procurement List; Proposed Additions

AGENCY: Committee for Purchase from People Who Are Blind or Severely Disabled.

ACTION: Proposed additions to procurement list.

SUMMARY: The Committee is proposing to add to the Procurement List products to be furnished by nonprofit agencies employing persons who are blind or have other severe disabilities.

Comments Must be Received on or Before: March 20, 2005.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: This requirement was originally added to the Procurement List on April 21, 2000 (65 FR 21396) as Customization and Distribution of Navy Recruiting Promotional Merchandise,” a service requirement covering the entire promotional material needs of the Commander, Naval Recruiting Command. In 2004, the Navy advised the Committee that its requirement for such items will be purchased as products in the future, and requested that the Committee initiate the appropriate administrative process to maintain the entire requirement on the Procurement List. This requirement, in its current form, consists of the items specifically listed below. As the Navy's entire requirement for recruiting and promotional materials remains on the Procurement List, any changes to the list below will be considered replacement items under the Committee's regulations at 41 CFR 51-6.13.

This notice is published pursuant to 41 U.S.C 47(a)(2) and 41 CFR 51-2.3. Its purpose is to provide interested persons an opportunity to submit comments on the proposed actions. If the Committee approves the proposed additions, the entities of the Federal Government identified in the notice for each product or service will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited.

Commenters should identify the statement(s) underlying the certification on which they are providing additional information.

End of Certification

The following products are proposed for addition to Procurement List for production by the nonprofit agencies listed:

Products

Product: Navy Promotional Recruiting Materials

Product/NSN: Ball Caps

8405-00-WIM-0175

Product/NSN: Ball Caps

8405-00-WIM-0176

Product/NSN: Ball Caps

8405-00-WIM-0177

Product/NSN: Beverage Can Cooler

7830-00-WIM-0010

Product/NSN: Beverage Can Cooler

7830-00-WIM-0012

Product/NSN: Coins

8145-00-NIB-0013

Product/NSN: Coins

8145-00-NIB-0014

Product/NSN: Flashlight

7830-00-WIM-0008

Product/NSN: Flashlight

7830-00-WIM-0011

Product/NSN: Flyer

7830-00-NIB-0001

Product/NSN: Golf Balls

7830-00-NIB-0007

Product/NSN: Lanyards

5340-00-WIM-0076

Product/NSN: Lanyards

5340-00-WIM-0077

Product/NSN: Lanyards

5340-00-WIM-0078

Product/NSN: Lanyards

5340-00-WIM-0079

Product/NSN: Lapel Pin

8145-00-WIM-0101

Product/NSN: Luggage Tag

9905-00-NIB-0088

Product/NSN: Luggage Tag

9905-00-NIB-0089

Product/NSN: Mini Pouch w/Ear Plugs

8145-00-WIM-0025

Product/NSN: Mini Pouch w/Ear Plugs

8145-00-WIM-0026

Product/NSN: Mouse Pad, Computer

7045-00-NIB-0170

Product/NSN: Pack, Personal Gear

8465-00-NIB-0057

Product/NSN: Pen, Cushion Grip, Transparent

7520-00-WIM-1545

Product/NSN: Pen, Cushion Grip, Transparent

7520-00-WIM-1550

Product/NSN: Pen, Executive, Twist Retractable

7520-00-WIM-1471

Product/NSN: Pen, Executive, Twist Retractable

7520-00-WIM-1472

Product/NSN: Pencil, Metallic Foil, Imprint, Navy 7510-00-NIB-0525

Product/NSN: Planner 7510-00-WIM-0552

Product/NSN: Polo Shirts 8415-00-NIB-0159

Product/NSN: Polo Shirts 8415-00-NIB-0160

Product/NSN: Polo Shirts 8415-00-NIB-0161

Product/NSN: Polo Shirts 8415-00-NIB-0162

Product/NSN: Polo Shirts 8415-00-WIM-0170

Product/NSN: Polo Shirts 8415-00-WIM-0171

Product/NSN: Retractable Badge Holder 8145-00-WIM-0020

Product/NSN: Rulers 9905-00-WIM-0090

Product/NSN: Rulers 9905-00-WIM-0095

Product/NSN: Slingbag 8465-00-WIM-0070

Product/NSN: Stress Baseball 7830-00-NIB-0006

Product/NSN: Stress Basketball 7830-00-NIB-0005

Product/NSN: Stress Football 7830-00-NIB-0002

Product/NSN: Sunglasses 8465-00-NIB-0067

Product/NSN: T-Shirts 8415-00-NIB-0139

Product/NSN: T-Shirts 8415-00-NIB-0140

Product/NSN: T-Shirts 8415-00-NIB-0157

Product/NSN: T-Shirts 8415-00-NIB-0158

Product/NSN: T-Shirts

8415-00-WIM-0165

Product/NSN: T-Shirts

8415-00-WIM-0166

Product/NSN: T-Shirts

8415-00-WIM-0167

Product/NSN: T-Shirts

8415-00-WIM-0168

Product/NSN: Table Cloth

8460-00-WIM-0004

Product/NSN: Temporary Tattoos

9905-00-WIM-0091

Product/NSN: Temporary Tattoos

9905-00-WIM-0092

Product/NSN: Travel mug

7350-00-NIB-0147

Product/NSN: Travel mug

7350-00-WIM-0149

Product/NSN: Travel mug

7350-00-WIM-0150

Product/NSN: Travel mug

7350-00-WIM-0151

Product/NSN: Tumbler

8125-00-NIB-0007

Product/NSN: Water Bottle

8125-00-NIB-0006

Product/NSN: Zipper Jacket and Jogging Pants

8415-00-NIB-0141

Product/NSN: Zipper Jacket and Jogging Pants

8415-00-NIB-0142

Product/NSN: Zipper Jacket and Jogging Pants

8415-00-NIB-0143

Product/NSN: Zipper Jacket and Jogging Pants

8415-00-NIB-0144

NPA: Industries for the Blind, Inc., Milwaukee, Wisconsin.

Contracting Activity: Fleet and Industrial Supply Center, Philadelphia, Pennsylvania.

Sheryl D. Kennerly,
Director, Information Management.

[FR Doc. 05-3173 Filed 2-17-05; 8:45 am]

BILLING CODE 6353-01-P